DEPARTMENT OF AGRICULTURE

Submission for OMB Review; Comment Request

July 24, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Food Donation Programs (Food for Progress & Section 416(b) and McGovern-Dole International Food for Education and Child Nutrition Program).

OMB Control Number: 0551-0035.

Summary of Collection: The U.S. Department of Agriculture's Foreign Agricultural Service (FAS) helps provide U.S. agricultural commodities to feed millions of hungry people in needy countries through direct donations and concessional programs. Food aid may be provided through four program authorities: Food for Progress; Section 416(b); the McGovern-Dole International Food for Education and Child Nutrition Program; and Public Law 480 (Pub. L. 480). The authorities to collection information for these programs are under 7 CFR Part 1499, Foreign Donation Programs and 7 CFR Part 1599, McGovern-Dole International Food for Education and Child Nutrition Program.

Need and Use of the Information: FAS will collect information from the Cooperating Sponsor to determine its ability to carry out a food aid program, to establish terms under which the commodities will be provided, to monitor the progress of commodity distribution, including how transportation is procured, and to evaluate both the program's success and the Cooperating Sponsor's effectiveness in meeting certain goals. Information is also collected from ship owners/brokers shipping the commodity to its destination.

Description of Respondents: Not for-profit institutions; Business or other for-profit.

Number of Respondents: 241.

Frequency of Responses: Recordkeeping; Reporting: Semi-annually; Quarterly.

Total Burden Hours: 50,434.

Ruth Brown,
Departmental Information Collection Clearance Officer.

[FR Doc. E7-14561 Filed 7-26-07; 8:45 am]

BILLING CODE 3410-10-P